DEPARTMENT OF THE INTERIOR

Bureau of Land Management

[MT-070-02-1610-DU]

Intent To Prepare an Amendment to the Headwaters Resource Management Plan and an Associated Environmental Assessment

AGENCY: Bureau of Land Management, Interior.

ACTION: Notice of intent to prepare an amendment to the Headwaters Resource Management Plan (RMP) and an associated Environmental Assessment (EA).

SUMMARY: This document provides notice that the Bureau of Land Management (BLM) intends to prepare an amendment to the Headwaters RMP and an associated EA. This process will develop a Travel Management Strategy that will identify a designated road and trail system to accommodate motorized and non-motorized recreation opportunities on approximately 28,000 acres in the Headwaters planning area. These lands are located east of Butte and northwest of Whitehall, in Jefferson County, Montana. The scoping comment period will commence with the publication of this notice. Formal scoping will end 30 days after publication of this notice. Comments should be received on or before the end of the scoping period at the address listed below. There has been extensive public involvement for this project over the past several years. Comments made during this process do not need to be re-submitted.

Public Involvement: The BLM is seeking comments from individuals, organizations, tribal governments, and Federal, State, and local agencies that are interested or may be affected by the proposed action. While public participation is welcome at any time, comments received within 30 days of the publication of this notice will be especially useful. To assist the BLM in identifying and considering issues and concerns on the proposed action, comments on the EA should be as specific as possible. Reviewers may wish to refer to the Council on Environmental Quality Regulations for implementing the procedural provisions of the National Environmental Policy Act at 40 CFR 1503.3 in addressing these points.

ADDRESSES: For further information, contact Steve Hartmann, 406-533-7671, or Ruth Miller, 406-533-7645, Butte Field Office. Send written comments to Whitetail-Pipestone EA, Butte Field Office, 106 North Parkmont, Butte, Montana, 59701. Comments, including names and addresses of respondents, may be published as part of this EA. Individual respondents may request confidentiality; if you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

SUPPLEMENTARY INFORMATION: In 1995, the U.S. Forest Service and BLM issued a Notice of Intent to Prepare an EIS for the Whitetail-Pipestone analysis area. In June 1998, the BLM implemented an Emergency Closure Order restricting motorized use to existing roads and trails until a Decision is issued for the Whitetail/Pipestone area. The purpose for this closure was to prevent further user-created trails and prevent damage occurring to cultural sites and riparian areas, and to prevent erosion and the spread of noxious weeds.

In 2000, the Forest Service withdrew from the project due to budget reasons; the majority of the analysis area (84 percent) was Forest Service System lands. The BLM decided to proceed with an EA after the Western Montana Resource Advisory Council (RAC) recommended the BLM continue with the project.

Many roads and trails in the analysis area are user-created through repeated use for many years by miners, loggers, ranchers, or for recreation purposes. The proposed action would define a road and trail system and identify a method to prioritize roads and trails for maintenance, decommissioning, and new construction. Preliminary issues and management concerns identified to date are: (1) To bring recreation management into compliance with the 1984 BLM Headwaters Resource Management Plan; (2) to manage cultural properties in accordance with the National Historic Preservation Act of 1966, as amended, the Archaeological Resources Protection Act of 1979 and other appropriate Federal laws; (3) to address the changes in recreation activities during the last 10 years and to address the current and anticipated travel demands on public land in the project area; and (4) to manage recreation use while protecting cultural resources, water quality, soils, vegetation, wildlife and fisheries habitats, riparian areas, and other environmental components.

Dated: October 2, 2001.
Richard M. Hotaling,
Butte Field Manager.

[FR Doc. 01-28608 Filed 11-14-01; 8:45 am]

BILLING CODE 4310-$$-P